DEPARTMENT OF HEALTH AND HUMAN SERVICES

Centers for Disease Control and Prevention

[60Day-07-07BH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Environmental Health Specialists Network (EHS-NET) Program—New—National Center for Environmental Health (NCEH), Centers for Disease Control and Prevention (CDC).

Background and Brief Description

The CDC is requesting OMB approval for a research program focused on identifying the environmental causes of food and waterborne illness and improving environmental public health practice. This research program is conducted by the Environmental Health Specialists Network (EHS-Net), a collaborative project of CDC, the U.S. Food and Drug Administration (FDA), the U.S. Department of Agriculture (USDA), the U.S. Environmental Protection Agency (U.S.EPA), and nine states (California, Connecticut, Georgia, Iowa, New York, Minnesota, Oregon, Rhode Island, and Tennessee). The network consists of environmental health professionals, epidemiologists, and laboratorians.

EHS-Net plans to conduct approximately twenty applied research projects per year. These research projects will focus on identifying and understanding environmental factors associated with food and waterborne illness, such as poor food and water handling practices. These projects will also focus on evaluation of food and water safety regulatory programs. Data collection for these projects may involve (1) surveys, (2) observations, and (3) food, water, and environmental sampling. Data may be collected from (1) retail food establishments, where the majority of foodborne illness outbreaks originate, (2) public and non-public water systems, representing possible sources of waterborne illness, and (3) food and water safety program regulators, who are responsible for food and water safety.

EHS-Net will conduct three food safety projects with all nine EHS-Net states per year. There will be up to 900 respondents for each project (total=2,700). Additionally, each EHS-Net state will conduct at least one individual food safety project, with up to 250 respondents for each project (total=2,250). Approximately three-fourths of the respondents for these projects will be retail food service workers; the remaining will be food safety program regulators. Thus, there will be approximately 3,713 retail food service worker and 1,237 food safety program regulator respondents to EHS-Net food safety projects annually. Each respondent will respond only once and the average burden per response will be approximately 90 minutes. The estimated total annual burden for EHS-Net food safety projects is 5,570 hours for retail food service workers and 1,856 hours for food safety program regulators.

Five EHS-Net states (California, Georgia, Minnesota, New York, and Tennessee) have funding to study water safety; EHS-Net will conduct three water safety projects with these five states per year. There will be up to 375 respondents for each project (total=1,875). Additionally, each EHS-Net water state will conduct at least one individual water safety project, with up to 250 respondents for each project (total=1,250). Approximately three-fourths of the respondents for these projects will be water system operators; the remaining will be water safety program regulators. Thus, there will be approximately 1,781 water system operator and 594 water safety program regulator respondents to EHS-Net water safety projects annually. Each respondent will respond only once and the average burden per response will be approximately 90 minutes. The estimated total annual burden for EHS-Net water safety projects is 2,672 hours for water system operators and 891 hours for water safety program regulators. The total annual burden for all EHS-Net projects is expected to be approximately 10,987 hours.

There is no cost to the respondents other than their time.

Annualized Burden Hours
Respondents | Number of respondents | Number of responses per respondent | Average burden per response (in hours) | Total burden (in hours)
Retail food service workers | 3,713 | 1 | 90/60 | 5,570
Food safety program regulators | 1,237 | 1 | 90/60 | 1,855
Water system operators | 1,781 | 1 | 90/60 | 2,671
Water safety program regulators | 594 | 1 | 90/60 | 891
Total |  |  |  | 10,987

Dated: July 18, 2007.
Maryam I. Daneshvar,
Acting Reports Clearance Officer, Centers for Disease Control and Prevention.

[FR Doc. E7-14389 Filed 7-24-07; 8:45 am]

BILLING CODE 4163-18-P